Title 3—

The President

Proclamation 10456 of September 30, 2022

Cybersecurity Awareness Month, 2022

By the President of the United States of America

A Proclamation

During Cybersecurity Awareness Month, we highlight the importance of safeguarding our Nation's critical infrastructure from malicious cyber activity and protecting citizens and businesses from ransomware and other attacks. We also raise awareness about the simple steps Americans can take to secure their sensitive data and stay safe online.

Cyberattacks affect our day-to-day lives, our economy, and our national security. By destroying, corrupting, or stealing information from our computer systems and networks, they can impact electric grids and fuel pipelines, hospitals and police departments, businesses and schools, and many other critical services that Americans trust and rely on every day. That is why my Administration started working immediately to shield our country and improve our defenses against cyberattacks.

Last year, I signed an Executive Order to modernize the Federal Government's cybersecurity defenses and create a standard playbook for Federal agencies to better identify and mitigate cyber threats and to respond quickly and effectively when they are attacked. It also improves Federal information security by establishing robust security standards for software purchased by the Government, which in turn raises the standard of cybersecurity in software products sold to the American people. My Administration is using the enormous purchasing power of the Federal Government to move the market standard to better protect Americans.

However, Government cannot meet our cyber resilience goals alone. The private sector owns and operates much of our Nation's critical infrastructure, and my Administration is committed to partnering with private industry to keep the public safe. We have required minimum cybersecurity standards for vital sectors of the American economy, including new security directives issued by the Transportation Security Administration to strengthen our transportation sector and associated infrastructure. Through the Bipartisan Infrastructure Law, we are investing in cybersecurity as a critical component in everything we build, from bridges to the electrical grid. We will also continue exchanging information with private industry about cyber threats so they can keep strengthening their defenses and ensure that the critical services they provide to the American people stay up and running.

The challenges before us require urgency and cooperation around the globe. That is why we are also joining with our international partners to hold malicious cyber actors accountable for their disruptive and destabilizing cyber-attacks and to make it harder for them to conduct damaging activities. My Administration's international Counter-Ransomware Initiative brings together more than 30 countries spanning 13 time-zones to disrupt malicious cyber activity around the world.

Cybersecurity is not limited to Government or critical infrastructure. Hackers target Americans every day, and cybersecurity is about protecting the American people and the services we rely on. This month, I encourage all Americans to increase their cybersecurity at home, at work, and in schools by taking steps such as enabling multi-factor authentication, using a trusted password manager and strong passwords, recognizing and reporting phishing, and updating their software regularly. As the threat of malicious cyber activities grows, we must all do our part to keep our Nation safe and secure.

NOW, THEREFORE, I, JOSEPH R. BIDEN JR., President of the United States of America, by virtue of the authority vested in me by the Constitution and the laws of the United States, do hereby proclaim October 2022 as Cybersecurity Awareness Month. I call upon the people, businesses, and institutions of the United States to recognize the importance of cybersecurity, to take action to better protect yourselves against cyber threats, and to observe Cybersecurity Awareness Month in support of our national security and resilience.

IN WITNESS WHEREOF, I have hereunto set my hand this thirtieth day of September, in the year of our Lord two thousand twenty-two, and of the Independence of the United States of America the two hundred and forty-seventh.

[FR Doc. 2022-21767

Filed 10-4-22; 8:45 am]

Billing code 3395-F3-P